DEPARTMENT OF COMMERCE

International Trade Administration

[A-583-834]

Notice of Final Determination of Sales at Less Than Fair Value: Certain Cold-Rolled Flat-Rolled Carbon-Quality Steel Products From Taiwan

AGENCY: Import Administration, International Trade Administration, Department of Commerce.

ACTION: Notice of final determination of sales at less than fair value.

EFFECTIVE DATE: May 31, 2000.

FOR FURTHER INFORMATION CONTACT: Edward Easton or Keir Whitson, at (202) 482-3003 or (202) 482-1777, respectively; Import Administration, International Trade Administration, U.S. Department of Commerce, Washington, D.C. 20230.

The Applicable Statute and Regulations

Unless otherwise indicated, all citations to the Tariff Act of 1930, as amended (“the Act”), are references to the provisions effective January 1, 1995, the effective date of the amendments made to the Act by the Uruguay Round Agreements Act (URAA). In addition, unless otherwise indicated, all citations to the Department of Commerce (“the Department”) regulations are to 19 CFR Part 351 (1999).

Final Determination

We determine that cold-rolled flat-rolled carbon-quality steel products (cold-rolled steel products) from Taiwan are being sold, or are likely to be sold, in the United States at less than fair value (LTFV), as provided in section 735 of the Act. The estimated margins of sales at LTFV are shown in the “Suspension of Liquidation” section of this notice.

Case History

The preliminary determination in this investigation was issued on December 28, 1999. See Notice of Preliminary Determination of Sales at Less Than Fair Value and Postponement of Final Determination: Certain Cold-Rolled Flat-Rolled Carbon-Quality Steel Products from Taiwan, 65 FR 1095 (January 7, 2000). The investigation initially covered two manufacturers/exporters: China Steel Corporation (CSC), and Taiwan Tokkin Corporation (Tokkin). Since the preliminary determination, the Department has concluded that the merchandise exported by Taiwan Tokkin, for the purpose of this investigation, is of Japanese origin. As a result, this final determination covers only CSC. See Issues and Decision Memorandum (Decision Memorandum) from Holly A. Kuga, Acting Deputy Assistant Secretary for Import Administration, to Troy H. Cribb, Acting Assistant Secretary for Import Administration, dated May 22, 2000, which is hereby adopted by this notice. The period of investigation is April 1, 1998, through March 31, 1999.

From January 17 through January 21, 2000, the Department conducted a verification of CSC's sales data.¹ Counsel to CSC requested a hearing on February 7, 2000, and withdrew the request on March 10, 2000. No other interested party requested a hearing. The petitioners ² and CSC submitted case briefs on April 7, 2000, and rebuttal briefs on April 12, 2000. On April 25 and April 26, 2000, the petitioners submitted requests that the Department reject certain information contained in CSC's rebuttal brief, on the grounds that it contained new factual information that had been untimely filed. On April 26, 2000, CSC responded to the petitioners' claims that CSC's rebuttal brief contained new factual information. The Department determined that certain information was untimely filed, and disregarded that information in reaching its final determination. See Memorandum to the File, dated May 22, 2000.

¹ The Department also conducted verification of the information submitted by Tokkin. However, as noted above, the Department has determined that Tokkin's merchandise exported to the United States during the POI to be of Japanese origin, such that this final determination covers only CSC.

² Petitioners in this case are Bethlehem Steel Corporation, Gulf States Steel, Inc., Ispat Inland Inc., LTV Steel Company Inc., National Steel Company, Steel Dynamics, Inc., U.S. Steel Group (a unit of USX Corporation), Weirton Steel Corporation, United Steelworkers of America, and Independent Steelworkers Union (collectively, the petitioners).

Scope of Investigation

For purposes of this investigation, the products covered are certain cold-rolled (cold-reduced) flat-rolled carbon-quality steel products, neither clad, plated, nor coated with metal, but whether or not annealed, painted, varnished, or coated with plastics or other non-metallic substances, both in coils, 0.5 inch wide or wider, (whether or not in successively superimposed layers and/or otherwise coiled, such as spirally oscillated coils), and also in straight lengths, which, if less than 4.75 mm in thickness having a width that is 0.5 inch or greater and that measures at least 10 times the thickness; or, if of a thickness of 4.75 mm or more, having a width exceeding 150 mm and measuring at least twice the thickness. The products described above may be rectangular, square, circular or other shape and include products of either rectangular or non-rectangular cross-section where such cross-section is achieved subsequent to the rolling process (i.e., products which have been “worked after rolling”)—for example, products which have been beveled or rounded at the edges.

The above is simply a summary of the products covered by the investigation. For the dispositive description of the scope of this investigation, see the “Scope of Investigation” section of the Decision Memorandum, which is on file in Room B-099 of the Department's Main Building and available on the World Wide Web at www.ita.doc.gov/import—admin/records/frn.

Analysis of Comments Received

All issues raised in the case and rebuttal briefs by parties to this antidumping proceeding are addressed in the Issues and Decision Memorandum (“Decision Memorandum”) from Holly Kuga, Acting Deputy Assistant Secretary, Import Administration, to Troy H. Cribb, Acting Assistant Secretary for Import Administration, dated May 22, 2000, which is hereby adopted by this notice. A list of the issues which parties have raised and to which we have responded, all of which are in the Decision Memorandum, is attached to this notice as an Appendix. Parties can find a complete discussion of all issues raised in this investigation and the corresponding recommendations in this public memorandum, which is on file in B-099. In addition, a complete version of the Decision Memorandum can be accessed directly on the World Wide Web at www.ita.doc.gov/import_admin/records/frn. The paper copy and electronic version of the Decision Memorandum are identical in content.

Changes Since the Preliminary Determination

Based on our findings at verification and analysis of comments received, we have made adjustments to the preliminary determination calculation methodology in determining the final dumping margin in this proceeding. These adjustments are discussed in the Decision Memorandum.

Suspension of Liquidation

Pursuant to section 735(c)(1)(B) of the Act, we are instructing Customs to continue to suspend liquidation of all entries of cold-rolled flat-rolled carbon-quality steel products from Taiwan that are entered, or withdrawn from warehouse, for consumption on or after January 7, 2000, the date of publication of the Preliminary Determination. The Customs Service shall continue to require a cash deposit or the posting of a bond based on the estimated weighted-average dumping margins shown below. The suspension of liquidation instructions will remain in effect until further notice.

We determine that the following weighted-average dumping margins exist for April 1, 1998, through March 31, 1999:

Manufacturer/exporter | Weighted-Average Margin (percent)
China Steel Corporation | 14.97
All Others | 14.97

ITC Notification

In accordance with section 735(d) of the Act, we have notified the International Trade Commission (ITC) of our determination. As our final determination is affirmative, the ITC will determine, within 45 days, whether these imports are causing material injury, or are a threat of material injury, to an industry in the United States. If the ITC determines that material injury or threat of injury does not exist, the proceeding will be terminated and all securities posted will be refunded or canceled. If the ITC determines that such injury does exist, the Department will issue an antidumping order directing Customs officials to assess antidumping duties on all imports of the subject merchandise entered, or withdrawn from warehouse for consumption on or after the effective date of the suspension of liquidation. The Department will also instruct the Customs Service to regard cold-rolled steel products manufactured by Tokkin, as described in the Decision Memorandum, to be of Japanese origin, and to terminate the suspension of liquidation of such products with respect to this proceeding. If the Department finds that Tokkin exports to the United States cold-rolled steel that the Department determines to be of Taiwan origin, those entries will be subject to the “all others” rate in this investigation.

This determination is issued and published in accordance with sections 735(d) and 777(i)(1) of the Act.

Dated: May 22, 2000.
Troy H. Cribb,
Acting Assistant Secretary for Import Administration.

Appendix

Issues Covered in Decision Memorandum

1. Country of Origin

2. Rejection of CSC's Special Incentive Program Discounts

3. Re-coding of certain CSC home market sales

4. Adverse inference for CSC's stevedoring expenses

5. Adverse inference for CSC's home market warranty expenses

6. Materials—scrap recovery

7. Materials—inventory valuation adjustments

8. General and administrative expense

9. General and administrative expense and financial expense ratios

10. Exchange gains and losses

11. Non-operating income and expenses

12. Scrap revenue

13. Short-term interest income

[FR Doc. 00-13580 Filed 5-30-00; 8:45 am]

BILLING CODE 3510-DS-P